DEPARTMENT OF ENERGY

Federal Energy Regulatory Commission

[Project No. 13381-001]

Jonathan and Jayne Chase; Notice of Application Tendered for Filing With the Commission and Soliciting Additional Study Requests

July 30, 2010.

Take notice that the following hydroelectric application has been filed with the Commission and is available for public inspection.

a. Type of Application: Exemption From Licensing.

b. Project No.: 13381-001.

c. Date filed: July 23, 2010.

d. Applicant: Jonathan and Jayne Chase.

e. Name of Project: Troy Hydroelectric Project.

f. Location: On the Missisquoi River, in the Town of Troy, Orleans County, Vermont. The project would not occupy lands of the United States.

g. Filed Pursuant to: Public Utility Regulatory Policies Act of 1978, 16 U.S.C. 2705, 2708.

h. Applicant Contact: Jonathan and Jayne Chase, 361 Goodall Road, Derby Line, VT 05830, (802) 895-2980.

i. FERC Contact: Tom Dean, (202) 502-6041.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 21, 2010.

All documents may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

m. The application is not ready for environmental analysis at this time.

n. The Troy Project would consist of: (1) The existing 180-foot-long, 55.7-foot-high Bakers Fall dam with a 134-foot-long spillway and a 3.33-foot-wide, 4.0-foot-high wastegate located below the spillway; (2) an existing 6.9-acre impoundment with a normal water surface elevation of 739.4 feet above mean sea level; (3) an existing intake structure equipped with two 3.33-foot-wide, 4.0-foot-high headgates; (4) an existing forebay with a 2.0-foot-wide, 2.0-foot-high wastegate; (5) an existing 250-foot-long, 6.5-foot-diameter penstock; (6) an existing powerhouse containing one inoperable 600-kilowatt (kW) generating unit; and (7) an existing 90-foot-long, 12.47-kilovolt transmission line.

The applicant proposes to: (1) Rehabilitate and increase the capacity of the inoperable generating unit to 850 kW; and (2) replace the existing transmission line with new transmission line. The proposed project is estimated to generate an average of 1,500 megawatt-hours annually.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via e-mail of new filings and issuances related to this or other pending projects. For assistance, contact FERC Online Support.

p. With this notice, we are initiating consultation with the Vermont State Historic Preservation Officer (SHPO), as required by § 106, National Historic Preservation Act, and the regulations of the Advisory Council on Historic Preservation, 36, CFR, at 800.4.

q. Procedural schedule: The application will be processed according to the following Hydro Licensing Schedule. Revisions to the schedule will be made as appropriate (i.e. if scoping is waived, the schedule would be shortened).

Issue Deficiency Letter—October 2010

Issue Acceptance letter—January 2011

Issue Scoping Document—February 2011

Notice of application is ready for environmental analysis—April 2011

Notice of the availability of the EA—November 2011

Nathaniel J. Davis, Sr.,
Deputy Secretary.

[FR Doc. 2010-19381 Filed 8-5-10; 8:45 am]

BILLING CODE 6717-01-P